DEPARTMENT OF STATE

[Public Notice 3595]

Culturally Significant Objects Imported for Exhibition Determinations: “A Breeze from the Gardens of Persia: New Art from Iran”

AGENCY: United States Department of State.

ACTION: Notice.

SUMMARY: Notice is hereby given of the following determinations: Pursuant to the authority vested in me by the Act of October 19, 1965 [79 Stat. 985, 22 U.S.C. 2459], the Foreign Affairs Reform and Restructuring Act of 1998 [112 Stat. 2681 et seq.], Delegation of Authority No. 234 of October 1, 1999 [64 FR 56014], and Delegation of Authority No. 236 of October 19, 1999 [64 FR 57920], as amended, I hereby determine that the objects to be included in the exhibit, “A Breeze from the Gardens of Persia: New Art from Iran,” imported from abroad for the temporary exhibition without profit within the United States, are of cultural significance. These objects will be imported pursuant to loan agreements with foreign lenders. I also determine that the temporary exhibition or display of the exhibit objects at the Meridian International Center, Washington, DC, from on or about April 26, 2001, to on or about July 14, 2001; Queens Library Gallery, Jamaica, NY, from on or about September 7, 2001, to on or about November 9, 2001; ArtCentre of Plano, Plano, TX, from on or about November 19, 2001, to on or about January 11, 2002, and at other U.S. venues yet to be determined, is in the national interest. The exhibition is expected to end by August 31, 2003. Public Notice of these determinations is ordered to be published in the Federal Register.

FOR FURTHER INFORMATION CONTACT: For further information, including a list of exhibit objects, contact Julianne Simpson, Attorney-Adviser, Office of the Legal Adviser, U.S. Department of State (telephone: 202/619-6529). The address is U.S. Department of State, SA-44, 301 4th Street, SW, Room 700, Washington, DC 20547-0001.

Dated: March 1, 2001.
Helena Kane Finn,
Acting Assistant Secretary for Educational and Cultural Affairs, U.S. Department of State.

[FR Doc. 01-5554 Filed 3-6-01; 8:45 am]

BILLING CODE 4710-08-P